SECURITIES AND EXCHANGE COMMISSION

[Release No. 34-50791; File No. SR-CBOE-2003-18]

Self-Regulatory Organizations; Notice of Withdrawal of Proposed Rule Change by the Chicago Board Options Exchange, Incorporated to Amend CBOE Rule 6.24 Relating to Systematizing Orders

December 3, 2004.

On May 5, 2003, the Chicago Board Options Exchange, Inc. (“CBOE” or “Exchange”) filed with the Securities and Exchange Commission (“SEC” or “Commission”) a proposed rule change pursuant to Section 19(b)(1) of the Securities Exchange Act of 1934 (the “Act”),¹ and Rule 19b-4 thereunder,² to amend CBOE Rule 6.24 relating to the systematization of orders to comply with the requirement to implement a consolidated options audit trail system (“COATS”). On July 29, 2003, the Exchange submitted Amendment No. 1 to the proposed rule change. The proposed rule change, as amended, was published for comment in the Federal Register on August 7, 2003.³ No comment letters were received. On November 24, 2004, the Exchange withdrew the proposed rule change.

¹ 15 U.S.C. 78s(b)(1).

² 17 CFR 240.19b-4.

³ See Securities Exchange Act Release No. 48267 (July 31, 2003), 68 FR 47116.

For the Commission, by the Division of Market Regulation, pursuant to delegated authority.⁴
⁴ 17 CFR 200.30-3(a)(12).
Jill M. Peterson,
Assistant Secretary.

[FR Doc. E4-3578 Filed 12-8-04; 8:45 am]

BILLING CODE 8010-01-P